DEPARTMENT OF THE INTERIOR

Fish and Wildlife Service

50 CFR Part 17

[4500030115]

Endangered and Threatened Wildlife and Plants; 90-Day Findings on 29 Petitions

AGENCY: Fish and Wildlife Service, Interior.

ACTION: Notice of petition findings and initiation of status reviews.

SUMMARY: We, the U.S. Fish and Wildlife Service (Service), announce 90-day findings on various petitions to list, reclassify, or delist fish, wildlife, or plants under the Endangered Species Act of 1973, as amended (Act). Based on our review, we find that 13 petitions do not present substantial scientific or commercial information indicating that the petitioned actions may be warranted, and we are not initiating status reviews in response to these petitions. We refer to these as “not-substantial” petition findings. We also find that 16 petitions present substantial scientific or commercial information indicating that the petitioned actions may be warranted. Therefore, with the publication of this document, we announce that we plan to initiate a review of the status of these species to determine if the petitioned actions are warranted. To ensure that these status reviews are comprehensive, we are requesting scientific and commercial data and other information regarding these species. Based on the status reviews, we will issue 12-month findings on the petitions, which will address whether the petitioned action is warranted, as provided in section 4(b)(3)(B) of the Act.

DATES: When we conduct status reviews, we will consider all information that we have received. To ensure that we will have adequate time to consider submitted information during the status reviews, we request that we receive information no later than May 16, 2016. For information submitted electronically using the Federal eRulemaking Portal (see ADDRESSES, below), this would mean submitting the information electronically by 11:59 p.m. Eastern Time on that date.

ADDRESSES: Not-substantial petition findings: The not-substantial petition findings announced in this document are available on http://www.regulations.gov under the appropriate docket number (see Table 1 in SUPPLEMENTARY INFORMATION), or on the Service's Web site at http://ecos.fws.gov. Supporting information in preparing these findings is available for public inspection, by appointment, during normal business hours by contacting the appropriate person, as specified under Table 3 in SUPPLEMENTARY INFORMATION. If you have new information concerning the status of, or threats to, any of these species or their habitats, please submit that information to the person listed under Table 3 in SUPPLEMENTARY INFORMATION.

Status reviews: You may submit information on species for which a status review is being initiated by one of the following methods:

(1) Electronically: Go to the Federal eRulemaking Portal: http://www.regulations.gov. In the Search box, enter the appropriate docket number (see Table 2 in SUPPLEMENTARY INFORMATION). You may submit information by clicking on “Comment Now!” If your information will fit in the provided comment box, please use this feature of http://www.regulations.gov, as it is most compatible with our information review procedures. If you attach your information as a separate document, our preferred file format is Microsoft Word. If you attach multiple comments (such as form letters), our preferred format is a spreadsheet in Microsoft Excel.

(2) By hard copy: Submit by U.S. mail or hand-delivery to: Public Comments Processing, Attn: [Insert appropriate docket number; see Table 2 in SUPPLEMENTARY INFORMATION]; U.S. Fish and Wildlife Service, MS: BPHC, 5275 Leesburg Pike; Falls Church, VA 22041-3803.

We request that you send information only by the methods described above. We will post all information received on http://www.regulations.gov. This generally means that we will post any personal information you provide us (see Request for Information for Status Reviews for more information).

FOR FURTHER INFORMATION CONTACT: See Table 3 in SUPPLEMENTARY INFORMATION for specific people to contact for each species.

SUPPLEMENTARY INFORMATION:

Not Substantial Findings

The not-substantial petition findings announced in this document are listed in Table 1 below, and are available on http://www.regulations.gov under the appropriate docket number, or on the Service's Web site at http://ecos.fws.gov.

Table 1—List of Not-Substantial Findings
Common name | Docket No. | URL to docket in Regulations.gov
Acuna cactus—delist | FWS-R2-ES-2016-0025 | http://www.regulations.gov/#!docketDetail;D=FWS-R2-ES-2016-0025.
Arizona night lizard | FWS-R2-ES-2015-0075 | http://www.regulations.gov/#!docketDetail;D=FWS-R2-ES-2015-0075.
Arizona wetsalts tiger beetle | FWS-R2-ES-2016-0027 | http://www.regulations.gov/#!docketDetail;D=FWS-R2-ES-2016-0027.
Bezy's night lizard | FWS-R2-ES-2015-0076 | http://www.regulations.gov/#!docketDetail;D=FWS-R2-ES-2015-0076.
Cheoah Bald salamander | FWS-R4-ES-2015-0081 | http://www.regulations.gov/#!docketDetail;D=FWS-R4-ES-2015-0081.
Cow Knob salamander | FWS-R5-ES-2015-0084 | http://www.regulations.gov/#!docketDetail;D=FWS-R5-ES-2015-0084.
MacDougal's yellowtops | FWS-R2-ES-2016-0033 | http://www.regulations.gov/#!docketDetail;D=FWS-R2-ES-2016-0033.
Monito skink | FWS-R4-ES-2016-0034 | http://www.regulations.gov/#!docketDetail;D=FWS-R4-ES-2016-0034.
Navasota ladies-tresses—delist | FWS-R2-ES-2016-0035 | http://www.regulations.gov/#!docketDetail;D=FWS-R2-ES-2016-0035.
Patagonia eyed silkmoth | FWS-R2-ES-2016-0036 | http://www.regulations.gov/#!docketDetail;D=FWS-R2-ES-2016-0036.
Reticulate collared lizard | FWS-R2-ES-2015-0109 | http://www.regulations.gov/#!docketDetail;D=FWS-R4-ES-2015-0109.
South Mountain gray-cheeked salamander | FWS-R4-ES-2015-0117 | http://www.regulations.gov/#!docketDetail;D=FWS-R4-ES-2015-0117.
Southern dusky salamander | FWS-R4-ES-2016-0038 | http://www.regulations.gov/#!docketDetail;D=FWS-R4-ES-2016-0038.

Substantial Findings

List of Substantial Findings

The list of substantial findings is given below in Table 2.

Table 2—List of Substantial Findings for Which a Status Review Is Being Initiated.
Common name | Docket No. | URL to docket in Regulations.gov
African elephant—reclassify | FWS-HQ-ES-2016-0010 | http://www.regulations.gov/#!docketDetail;D=FWS-HQ-ES-2016-0010.
American burying beetle—delist | FWS-R2-ES-2016-0011 | http://www.regulations.gov/#!docketDetail;D=FWS-R2-ES-2016-0011.
Chinese pangolin | FWS-HQ-ES-2016-0012 | http://www.regulations.gov/#!docketDetail;D=FWS-HQ-ES-2016-0012.
Deseret milkvetch—delist | FWS-R6-ES-2016-0013 | http://www.regulations.gov/#!docketDetail;D=FWS-R6-ES-2016-0013.
Giant ground pangolin | FWS-HQ-ES-2016-0014 | http://www.regulations.gov/#!docketDetail;D=FWS-HQ-ES-2016-0014.
Indian pangolin | FWS-HQ-ES-2016-0015 | http://www.regulations.gov/#!docketDetail;D=FWS-HQ-ES-2016-0015.
Leoncita false-foxglove | FWS-R2-ES-2016-0016 | http://www.regulations.gov/#!docketDetail;D=FWS-R2-ES-2016-0016.
Long-tailed pangolin | FWS-HQ-ES-2016-0017 | http://www.regulations.gov/#!docketDetail;D=FWS-HQ-ES-2016-0017.
Philippine pangolin | FWS-HQ-ES-2016-0018 | http://www.regulations.gov/#!docketDetail;D=FWS-HQ-ES-2016-0018.
Rio Grande chub | FWS-R2-ES-2016-0019 | http://www.regulations.gov/#!docketDetail;D=FWS-R2-ES-2016-0019.
Rio Grande sucker | FWS-R2-ES-2016-0020 | http://www.regulations.gov/#!docketDetail;D=FWS-R2-ES-2016-0020.
Southwestern willow flycatcher—delist | FWS-R2-ES-2016-0039 | http://www.regulations.gov/#!docketDetail;D=FWS-R2-ES-2016-0039.
Sunda pangolin | FWS-HQ-ES-2016-0021 | http://www.regulations.gov/#!docketDetail;D=FWS-HQ-ES-2016-0021.
Tree pangolin | FWS-HQ-ES-2016-0022 | http://www.regulations.gov/#!docketDetail;D=FWS-HQ-ES-2016-0022.
Western bumble bee | FWS-R6-ES-2016-0023 | http://www.regulations.gov/#!docketDetail;D=FWS-R6-ES-2016-0023.
Yellow-banded bumble bee | FWS-R5-ES-2016-0024 | http://www.regulations.gov/#!docketDetail;D=FWS-R5-ES-2016-0024.

Request for Information for Status Reviews

When we make a finding that a petition presents substantial information indicating that listing, reclassification, or delisting a species may be warranted, we are required to review the status of the species (status review). For the status review to be complete and based on the best available scientific and commercial information, we request information on these species from governmental agencies, Native American Tribes, the scientific community, industry, and any other interested parties. We seek information on:

(1) The species' biology, range, and population trends, including:

(a) Habitat requirements;

(b) Genetics and taxonomy;

(c) Historical and current range, including distribution patterns; and

(d) Historical and current population levels, and current and projected trends.

(2) The five factors that are the basis for making a listing, reclassification, or delisting determination for a species under section 4(a) of the Act (16 U.S.C. 1531 et seq.), including past and ongoing conservation measures that could decrease the extent to which one or more of the factors affect the species, its habitat, or both. The five factors are:

(a) The present or threatened destruction, modification, or curtailment of its habitat or range (Factor A);

(b) Overutilization for commercial, recreational, scientific, or educational purposes (Factor B);

(c) Disease or predation (Factor C);

(d) The inadequacy of existing regulatory mechanisms (Factor D); or

(e) Other natural or manmade factors affecting its continued existence (Factor E).

(3) The potential effects of climate change on the species and its habitat, and the extent to which it affects the habitat or range of the species.

If, after the status review, we determine that listing is warranted, we will propose critical habitat (see definition in section 3(5)(A) of the Act) for domestic (U.S.) species under section 4 of the Act, to the maximum extent prudent and determinable at the time we propose to list the species. Therefore, we also request data and information for the species listed in Table 2 (to be submitted as provided for in the ADDRESSES section) on:

(1) What may constitute “physical or biological features essential to the conservation of the species,” within the geographical range occupied by the species;

(2) Where these features are currently found;

(3) Whether any of these features may require special management considerations or protection;

(4) Specific areas outside the geographical area occupied by the species that are “essential for the conservation of the species”; and

(5) What, if any, critical habitat you think we should propose for designation if the species is proposed for listing, and why such habitat falls within the definition of “critical habitat” at section 3(5) of the Act.

Please include sufficient information with your submission (such as scientific journal articles or other publications) to allow us to verify any scientific or commercial information you include.

Submissions merely stating support for or opposition to the actions under consideration without providing supporting information, although noted, will not be considered in making a determination. Section 4(b)(1)(A) of the Act directs that determinations as to whether any species is an endangered or threatened species must be made “solely on the basis of the best scientific and commercial data available.”

You may submit your information concerning these status reviews by one of the methods listed in the ADDRESSES section. If you submit information via http://www.regulations.gov, your entire submission—including any personal identifying information—will be posted on the Web site. If you submit a hardcopy that includes personal identifying information, you may request at the top of your document that we withhold this personal identifying information from public review. However, we cannot guarantee that we will be able to do so. We will post all hardcopy submissions on http://www.regulations.gov.

Contacts

Contact information is provided below in Table 3 for both substantial and not-substantial findings.

Table 3—Contacts
Common name | Contact person
Acuna cactus | Brady McGee, 505-248-6657; Brady_McGee@fws.gov.
African elephant | Jessica Evans, 703-358-2141; Jessica_Evans@fws.gov.
American burying beetle | Brady McGee, 505-248-6657; Brady_McGee@fws.gov.
Arizona night lizard | Michelle Shaughnessy, 505-248-6920; Michelle_Shaughnessy@fws.gov.
Arizona wetsalts tiger beetle | Michelle Shaughnessy, 505-248-6920; Michelle_Shaughnessy@fws.gov.
Bezy's night lizard | Michelle Shaughnessy, 505-248-6920; Michelle_Shaughnessy@fws.gov.
Cheoah Bald salamander | Sue Cameron, 828-258-3939; Susan_Cameron@fws.gov.
Chinese pangolin | Jessica Evans, 703-358-2141; Jessica_Evans@fws.gov.
Cow Knob salamander | Krishna Gifford, 413-253-8619; Krishna_Gifford@fws.gov.
Deseret milkvetch | Larry Crist, 801-975-3330 x126; Larry_Crist@fws.gov.
Giant ground pangolin | Jessica Evans, 703-358-2141; Jessica_Evans@fws.gov.
Indian pangolin | Jessica Evans, 703-358-2141; Jessica_Evans@fws.gov.
Leoncita false-foxglove | Michelle Shaughnessy, 505-248-6920; Michelle_Shaughnessy@fws.gov.
Long-tailed pangolin | Jessica Evans, 703-358-2141; Jessica_Evans@fws.gov.
MacDougal's yellowtops | Michelle Shaughnessy, 505-248-6920; Michelle_Shaughnessy@fws.gov.
Monito skink | Andreas Moshogianis, 404-679-7119; Andreas_Moshogianis@fws.gov.
Navasota ladies-tresses | Brady McGee, 505-248-6657; Brady_McGee@fws.gov.
Patagonia eyed silkmoth | Michelle Shaughnessy, 505-248-6920; Michelle_Shaughnessy@fws.gov.
Philippine pangolin | Jessica Evans, 703-358-2141; Jessica_Evans@fws.gov.
Reticulate collared lizard | Michelle Shaughnessy, 505-248-6920; Michelle_Shaughnessy@fws.gov.
Rio Grande chub | Michelle Shaughnessy, 505-248-6920; Michelle_Shaughnessy@fws.gov.
Rio Grande sucker | Michelle Shaughnessy, 505-248-6920; Michelle_Shaughnessy@fws.gov.
South Mountain gray-cheeked salamander | Sue Cameron, 828-258-3939; Susan_Cameron@fws.gov.
Southern dusky salamander | Andreas Moshogianis, 404-679-7119; Andreas_Moshogianis@fws.gov.
Southwestern willow flycatcher | Brady McGee, 505-248-6657; Brady_McGee@fws.gov.
Sunda pangolin | Jessica Evans, 703-358-2141; Jessica_Evans@fws.gov.
Tree pangolin | Jessica Evans, 703-358-2141; Jessica_Evans@fws.gov.
Western bumble bee | Mark Sattelberg, 307-772-2374; Mark_Sattelberg@fws.gov.
Yellow-banded bumble bee | Krishna Gifford, 413-253-8619; Krishna_Gifford@fws.gov.
If you use a telecommunications device for the deaf (TDD), please call the Federal Information Relay Service (FIRS) at 800-877-8339.

Background

Section 4(b)(3)(A) of the Act requires that we make a finding on whether a petition to list, delist, or reclassify a species presents substantial scientific or commercial information indicating that the petitioned action may be warranted. To the maximum extent practicable, we are to make this finding within 90 days of our receipt of the petition and publish our notice of the finding promptly in the Federal Register.

Our regulations in the Code of Federal Regulations (CFR) establish that the standard for substantial scientific or commercial information with regard to a 90-day petition finding is “that amount of information that would lead a reasonable person to believe that the measure proposed in the petition may be warranted” (50 CFR 424.14(b)). If we find that a petition presents substantial scientific or commercial information, we are required to promptly commence a review of the status of the species, and we will subsequently summarize the status review in our 12-month finding.

Section 4 of the Act (16 U.S.C. 1533) and its implementing regulations at 50 CFR part 424 set forth the procedures for adding a species to, or removing a species from, the Federal Lists of Endangered and Threatened Wildlife and Plants. A species may be determined to be an endangered or threatened species because of one or more of the five factors described in section 4(a)(1) of the Act (see Request for Information for Status Reviews, above).

In considering whether conditions described within one or more of the factors might constitute threats, we must look beyond the exposure of the species to those conditions to evaluate whether the species may respond to the conditions in a way that causes actual impacts to the species. If there is exposure to a condition and the species responds negatively, the condition qualifies as a stressor and, during the subsequent status review, we attempt to determine how significant the stressor is. If the stressor is sufficiently significant that it drives, or contributes to, the risk of extinction of the species such that the species may warrant listing as endangered or threatened as those terms are defined in the Act, the stressor constitutes a threat to the species. Thus, the identification of conditions that could affect a species negatively may not be sufficient to compel a finding that the information in the petition and our files is substantial. The information must include evidence sufficient to suggest that these conditions may be operative threats that act on the species to a sufficient degree that the species may meet the definition of an endangered or threatened species under the Act.

Evaluation of a Petition To Remove the Acuna Cactus From the List of Endangered and Threatened Wildlife

Additional information regarding our review of this petition can be found as an appendix at http://www.regulations.gov under Docket No. FWS-R2-ES-2016-0025 under the Supporting Documents section.

Species and Range

Acuna cactus (Echinomastus erectocentrus var. acunensis): Arizona; Mexico

Petition History

On October 21, 2014, we received a petition dated October 8, 2014, from Freeport-McMoRan Minerals Corporation requesting the acuna cactus be delisted under the Act due to invalid taxonomy, larger range than previously known, and lack of adequate monitoring and survey data resulting in overstated decline in populations. The petition clearly identified itself as such and included the requisite identification information for the petitioner, required at 50 CFR 424.14(a). In a December 18, 2014, letter to the petitioner, we responded that we received the petition. This finding addresses the petition.

Finding

Based on our review of the petition and sources cited in the petition, we find that the petition does not present substantial scientific or commercial information indicating that the petitioned action (delisting) may be warranted for the acuna cactus (Echinomastus erectocentrus var. acunensis). Because the petition does not present substantial information indicating that delisting the acuna cactus may be warranted, we are not initiating a status review of this species in response to this petition. The basis and scientific support for this finding can be found as an appendix at http://www.regulations.gov under Docket No. FWS-R2-ES-2016-0025 under the Supporting Documents section. However, we ask that the public submit to us any new information that becomes available concerning the status of, or threats to, this species or its habitat at any time (see Table 3 in SUPPLEMENTARY INFORMATION).

Evaluation of Two Petitions To Reclassify the African Elephant From a Threatened Species to an Endangered Species Under the Act

Additional information regarding our review of these petitions can be found as an appendix at http://www.regulations.gov under Docket No. FWS-HQ-ES-2016-0010 under the Supporting Documents section.

Species and Range

African elephant (Loxodonta africana): Angola; Benin; Botswana; Burkina Faso; Cameroon; Central African Republic; Chad; Congo; Democratic Republic of the Congo; Côte d'Ivoire; Equatorial Guinea; Eritrea; Ethiopia; Gabon; Ghana; Guinea; Guinea-Bissau; Kenya; Liberia; Malawi; Mali; Mozambique; Namibia; Niger; Nigeria; Rwanda; Senegal; Sierra Leone; Somalia; South Africa; South Sudan; Swaziland; Tanzania; Togo; Uganda; Zambia; Zimbabwe

Petitions History

On February 12, 2015, we received an electronic petition dated February 11, 2015, from the International Fund for Animal Welfare, Humane Society International, Humane Society of the United States, and Fund for Animals requesting that the African elephant (Loxodonta africana) be reclassified from threatened status to endangered status under the Act. The petition clearly identified itself as such and included the requisite identification information for the petitioner, required at 50 CFR 424.14(a). In a June 17, 2015, letter to the petitioner, we responded that we had reviewed the information presented in the petition and did not find that the petition warranted an emergency listing under section 4(b)(7) of the Act.

On June 10, 2015, we received a second petition dated June 10, 2015, from the Center for Biological Diversity (CBD) requesting that the listed African elephant be reclassified from a single species (Loxodonta africana) into two separate species, forest elephants (Loxodonta cyclotis) and savannah elephants (Loxodonta africana); the petition also requested to have both species reclassified as endangered species under the Act. The petition clearly identified itself as such and included the requisite identification information for the petitioner, required at 50 CFR 424.14(a). In a June 17, 2015, letter to the petitioner, we responded that we had reviewed the information presented in the petition and did not find that the petition warranted an emergency listing under section 4(b)(7) of the Act.

As both petitions requested the same action for the same species, this finding will address both petitions. Additionally, although CBD requested that the listed African elephant be reclassified from a single species (Loxodonta africana) into two separate species, the forest elephants (Loxodonta cyclotis) and the savannah elephants (Loxodonta africana), a taxonomic change is beyond the scope of our initial 90-day finding, and we will instead consider whether such a change is warranted as part of our status review and 12-month finding for the species.

Finding

Based on our review of the petition and sources cited in the petition, we find that the petition presents substantial scientific or commercial information indicating that listing the African elephant (Loxodonta africana) may be warranted based on Factors A, B, D, and E. However, during our status review, we will thoroughly evaluate all potential threats to the species, including the extent to which any protections or other conservation efforts have reduced those threats. Thus, for this species, the Service requests any information relevant to whether the species falls within the definition of either an endangered species under section 3(6) of the Act or a threatened species under section 3(20), including information on the five listing factors under section 4(a)(1) and any other factors identified in this finding (see Request for Information for Status Reviews, above).

Evaluation of a Petition To Remove the American Burying Beetle From the List of Endangered and Threatened Wildlife

Additional information regarding our review of this petition can be found as an appendix at http://www.regulations.gov under Docket No. FWS-R2-ES-2016-0011 under the Supporting Documents section.

Species and Range

American burying beetle (Nicrophorus americanus): Arkansas, Kansas, Massachusetts, Missouri, Nebraska, Oklahoma, Rhode Island, South Dakota, and Texas

Petition History

On August 18, 2015, we received a petition dated August 18, 2015, via electronic mail from American Stewards of Liberty, the Independent Petroleum Association of America, the Texas Public Policy Foundation, and Dr. Steven W. Carothers (petitioners) requesting that the American burying beetle be delisted under the Act due to error in information such that the existence or magnitude of threats to the species, or both, do not support a conclusion that the species is at risk of extinction now or in the foreseeable future. The petition clearly identified itself as a petition and included the requisite identification information for the petitioner, as required by 50 CFR 424.14(a). This finding addresses the petition.

Finding

Based on our review of the petition and sources cited in the petition, we find that the petition presents substantial scientific or commercial information indicating that the petitioned action (delisting) may be warranted for the American burying beetle (Nicrophorus americanus), based on a lack of threats under any of the five listing factors. However, during our status review, we will thoroughly evaluate all potential threats to the species, including the extent to which any protections or other conservation efforts have reduced those threats. Thus, for this species, the Service requests any information relevant to whether the species falls within the definition of either an endangered species under section 3(6) of the Act or a threatened species under section 3(20), including information on the five listing factors under section 4(a)(1) and any other factors identified in this finding (see Request for Information for Status Reviews, above).

Evaluation of a Petition To List the Arizona Night Lizard as an Endangered or Threatened Species Under the Act

Additional information regarding our review of this petition can be found as an appendix at http://www.regulations.gov under Docket No. FWS-R2-ES-2015-0075 under the Supporting Documents section.

Species and Range

Arizona night lizard (Xantusia arizonae): Arizona

Petition History

On July 11, 2012, we received a petition dated July 11, 2012, from CBD requesting that 53 species of reptiles and amphibians, including the Arizona night lizard, be listed under the Act as endangered or threatened and that critical habitat be designated under the Act. The petition clearly identified itself as such and included the requisite identification information for the petitioner, required at 50 CFR 424.14(a). This finding addresses the Arizona night lizard.

Finding

Based on our review of the petition and sources cited in the petition, we find that the petition does not present substantial scientific or commercial information indicating that the petitioned action may be warranted for the Arizona night lizard (Xantusia arizonae). Because the petition does not present substantial information indicating that listing the Arizona night lizard may be warranted, we are not initiating a status review of this species in response to this petition. The basis and scientific support for this finding can be found as an appendix at http://www.regulations.gov under Docket No. FWS-R2-ES-2015-0075 under the Supporting Documents section. However, we ask that the public submit to us any new information that becomes available concerning the status of, or threats to, this species or its habitat at any time (see Table 3 in SUPPLEMENTARY INFORMATION).

Evaluation of a Petition To List the Arizona Wetsalts Tiger Beetle as an Endangered or Threatened Species Under the Act

Additional information regarding our review of this petition can be found as an appendix at http://www.regulations.gov under Docket No. FWS-R2-ES-2016-0027 under the Supporting Documents section.

Species and Range

Arizona wetsalts tiger beetle (Cicindela haemorrhagica arizonae): Arizona and Utah. This is a subspecies of the wetsalts tiger beetle (Cicindela haemorrhagica).

Petition History

On May 1, 2015, we received a petition dated May 1, 2015, from CBD requesting that the Arizona wetsalts tiger beetle be listed as threatened or endangered under the Act. The petition clearly identified itself as such and included the requisite identification information for the petitioner, required at 50 CFR 424.14(a). In a June 4, 2015, letter to the petitioner, we responded that we had reviewed the information presented in the petition and did not find that the petition warranted an emergency listing under section 4(b)(7) of the Act. This finding addresses the petition.

Finding

Based on our review of the petition and sources cited in the petition, we find that the petition does not present substantial scientific or commercial information indicating that the petitioned action may be warranted for the Arizona wetsalts tiger beetle (Cicindela haemorrhagica arizonae). Because the petition does not present substantial information indicating that listing the Arizona wetsalts tiger beetle may be warranted, we are not initiating a status review of this species in response to this petition. The basis and scientific support for this finding can be found as an appendix at http://www.regulations.gov under Docket No. FWS-R2-ES-2016-0027 under the Supporting Documents section. However, we ask that the public submit to us any new information that becomes available concerning the status of, or threats to, this species or its habitat at any time (see Table 3 in SUPPLEMENTARY INFORMATION).

Evaluation of a Petition To List Bezy's Night Lizard as an Endangered or Threatened Species Under the Act

Additional information regarding our review of this petition can be found as an appendix at http://www.regulations.gov under Docket No. FWS-R2-ES-2015-0076 under the Supporting Documents section.

Species and Range

Bezy's night lizard (Xantusia bezyi): Arizona

Petition History

On July 11, 2012, we received a petition dated July 11, 2012, from CBD requesting that 53 species of reptiles and amphibians, including Bezy's night lizard, be listed under the Act as endangered or threatened and that critical habitat be designated under the Act. The petition clearly identified itself as such and included the requisite identification information for the petitioner, required at 50 CFR 424.14(a). This finding addresses Bezy's night lizard.

Finding

Based on our review of the petition and sources cited in the petition, we find that the petition does not present substantial scientific or commercial information indicating that the petitioned action may be warranted for Bezy's night lizard (Xantusia bezyi). Because the petition does not present substantial information indicating that listing Bezy's night lizard may be warranted, we are not initiating a status review of this species in response to this petition. The basis and scientific support for this finding can be found as an appendix at http://www.regulations.gov under Docket No. FWS-R2-ES-2015-0076 under the Supporting Documents section. However, we ask that the public submit to us any new information that becomes available concerning the status of, or threats to, this species or its habitat at any time (see Table 3 in SUPPLEMENTARY INFORMATION).

Evaluation of a Petition To List the Cheoah Bald Salamander as an Endangered or Threatened Species Under the Act

Additional information regarding our review of this petition can be found as an appendix at http://www.regulations.gov under Docket No. FWS-R4-ES-2015-0081 under the Supporting Documents section.

Species and Range

Cheoah Bald salamander (Plethodon cheoah): North Carolina

Petition History

On July 11, 2012, we received a petition dated July 11, 2012, from CBD requesting that 53 species of reptiles and amphibians, including the Cheoah Bald salamander, be listed under the Act as endangered or threatened and that critical habitat be designated under the Act. The petition clearly identified itself as such and included the requisite identification information for the petitioner, required at 50 CFR 424.14(a). This finding addresses the Cheoah Bald salamander.

Finding

Based on our review of the petition and sources cited in the petition, we find that the petition does not present substantial scientific or commercial information indicating that the petitioned action may be warranted for the Cheoah Bald salamander (Plethodon cheoah). Because the petition does not present substantial information indicating that listing the Cheoah Bald salamander may be warranted, we are not initiating a status review of this species in response to this petition. The basis and scientific support for this finding can be found as an appendix at http://www.regulations.gov under Docket No. FWS-R4-ES-2015-0081 under the Supporting Documents section. However, we ask that the public submit to us any new information that becomes available concerning the status of, or threats to, this species or its habitat at any time (see Table 3 in SUPPLEMENTARY INFORMATION).

Evaluation of Two Petitions To List the Chinese Pangolin Under the Endangered Species Act

Additional information regarding our review of these petitions can be found as an appendix at http://www.regulations.gov under Docket No. FWS-HQ-ES-2016-0012 under the Supporting Documents section.

Species and Range

Chinese pangolin (Manis pentadactyla): Himalayan foothills, northern India; southern Bhutan; northeastern Bangladesh; northern Lao PDR; southern China; Taiwan; Hong Kong SAR; northern Viet Nam; northwest Thailand; and northern and western Myanmar

Petitions History

On July 15, 2015, we electronically received a petition from Born Free USA (BFUSA), CBD, Humane Society International (HSI), The Humane Society of the United States (HSUS), and the International Fund for Animal Welfare (IFAW), requesting that we list seven species of pangolin (Chinese pangolin (Manis pentadactyla), Sunda pangolin (M. javanica), Philippine pangolin (M. culionensis), Indian pangolin (M. crassicaudata), tree pangolin (M. tricuspis), giant ground pangolin (M. gigantean), and the long-tailed pangolin (M. tetradactyla)) as endangered species under the Act. The petition clearly identified itself as such and included the requisite identification information for the petitioner, required at 50 CFR 424.14(a). In an August 17, 2015, letter to the petitioner, we responded that we had reviewed the information presented in the petition and did not find that the petition warranted an emergency listing under section 4(b)(7) of the Act.

On July 15, 2015, we electronically received a second petition from CBD, IFAW, HSUS, and BFUSA requesting that the Service list the same seven species of pangolin (Chinese pangolin (Manis pentadactyla), Sunda pangolin (M. javanica), Philippine pangolin (M. culionensis), Indian pangolin (M. crassicaudata), tree pangolin (M. tricuspis), giant ground pangolin (M. gigantean), and the long-tailed pangolin (M. tetradactyla)) as an endangered species under the similarity of appearance provisions of the Act (section 4(e)), based upon the petitioners' claim of these species' similarity of appearance to the currently listed Temminck's ground pangolin (Manis temminckii). The petition clearly identified itself as such and included the requisite identification information for the petitioner, required at 50 CFR 424.14(a). In an August 17, 2015, letter to the petitioner, we responded that we had reviewed the information presented in the petition and did not find that the petition warranted an emergency listing under section 4(b)(7) of the Act.

As both petitions address the seven unlisted species of pangolin, we are combining the petitioned actions (listing each species as either threatened or endangered either based on the five factors under section 4(a)(1) of the Act or due to a similarity of appearance under section 4(e) of the Act) into a single 90-day finding for each species. The requested action for listing based on similarity of appearance (section 4(e)) will be considered under Factor E of each finding.

This finding addresses the Chinese pangolin (Manis pentadactyla).

Finding

Based on our review of the petition and sources cited in the petition, we find that the petition presents substantial scientific or commercial information indicating that listing the Chinese pangolin (Manis pentadactyla) may be warranted based on Factors A, B, D, and E. However, during our status review, we will thoroughly evaluate all potential threats to the species, including the extent to which any protections or other conservation efforts have reduced those threats. Thus, for this species, the Service requests any information relevant to whether the species falls within the definition of either an endangered species under section 3(6) of the Act or a threatened species under section 3(20), including information on the five listing factors under section 4(a)(1) and any other factors identified in this finding (see Request for Information for Status Reviews, above).

Evaluation of a Petition To List the Cow Knob Salamander as an Endangered or Threatened Species Under the Act

Additional information regarding our review of this petition can be found as an appendix at http://www.regulations.gov under Docket No. FWS-R5-ES-2015-0084 under the Supporting Documents section.

Species and Range

Cow Knob (or white-spotted) salamander (Plethodon punctatus): Virginia, West Virginia

Petition History

On July 11, 2012, we received a petition dated July 11, 2012, from CBD requesting that 53 species of reptiles and amphibians, including the Cow Knob (or white-spotted) salamander, be listed under the Act as endangered or threatened and that critical habitat be designated under the Act. The petition clearly identified itself as such and included the requisite identification information for the petitioner, required at 50 CFR 424.14(a). This finding addresses the Cow Knob salamander.

Finding

Based on our review of the petition and sources cited in the petition, we find that the petition does not present substantial scientific or commercial information indicating that the petitioned action may be warranted for the Cow Knob (or white-spotted) salamander (Plethodon punctatus). Because the petition does not present substantial information indicating that listing the Cow Knob salamander may be warranted, we are not initiating a status review of this species in response to this petition. The basis and scientific support for this finding can be found as an appendix at http://www.regulations.gov under Docket No. FWS-R5-ES-2015-0084 under the Supporting Documents section. However, we ask that the public submit to us any new information that becomes available concerning the status of, or threats to, this species or its habitat at any time (see Table 3 in SUPPLEMENTARY INFORMATION).

Evaluation of a Petition To Remove the Deseret Milkvetch From the List of Endangered and Threatened Wildlife

Additional information regarding our review of this petition can be found as an appendix at http://www.regulations.gov under Docket No. FWS-R6-ES-2016-0013 under the Supporting Documents section.

Species and Range

Deseret milkvetch (Astragalus desereticus): Utah

Petition History

We received a petition dated October 6, 2015, from Western Area Power Administration requesting that Deseret milkvetch (currently listed as threatened), be delisted under the Act due to new information. The petition clearly identified itself as such and included the requisite identification information for the petitioner, required at 50 CFR 424.14(a). This finding addresses the petition.

Finding

Based on our review of the petition and sources cited in the petition, we find that the petition presents substantial scientific or commercial information indicating that the petitioned action (delisting) may be warranted for the Deseret milkvetch (Astragalus desereticus), based on a lack of threats under any of the five listing factors. However, during our status review, we will thoroughly evaluate all potential threats to the species, including the extent to which any protections or other conservation efforts have reduced those threats. Thus, for this species, the Service requests information relevant to whether the species falls within the definition of either an endangered species under section 3(6) of the Act or a threatened species under section 3(20), including information on the five listing factors under section 4(a)(1) and any other factors identified in this finding (see Request for Information for Status Reviews, above).

Evaluation of Two Petitions To List the Giant Ground Pangolin Under the Endangered Species Act

Additional information regarding our review of these petitions can be found as an appendix at http://www.regulations.gov under Docket No. FWS-HQ-ES-2016-0014 under the Supporting Documents section.

Species and Range

Giant ground pangolin (Manis gigantean): Cameroon; Central African Republic; Congo; Congo, The Democratic Republic of the; Côte d'Ivoire; Equatorial Guinea (Bioko, Equatorial Guinea (mainland)); Gabon; Ghana; Guinea; Guinea-Bissau; Liberia; Senegal; Sierra Leone; Tanzania, United Republic of; Uganda

Petitions History

On July 15, 2015, we electronically received a petition from BFUSA, CBD, HSI, HSUS, and IFAW requesting that we list seven species of pangolin (Chinese pangolin (Manis pentadactyla), Sunda pangolin (M. javanica), Philippine pangolin (M. culionensis), Indian pangolin (M. crassicaudata), tree pangolin (M. tricuspis), giant ground pangolin (M. gigantean), and the long-tailed pangolin (M. tetradactyla)) as endangered species under the Act. The petition clearly identified itself as such and included the requisite identification information for the petitioner, required at 50 CFR 424.14(a). In an August 17, 2015, letter to the petitioner, we responded that we reviewed the information presented in the petition and did not find that the petition warranted an emergency listing under section 4(b)(7) of the Act.

On July 15, 2015, we electronically received a second petition from CBD, IFAW, HSI, HSUS, and BFUSA requesting that the Service list the same seven species of pangolin (Chinese pangolin (Manis pentadactyla), Sunda pangolin (M. javanica), Philippine pangolin (M. culionensis), Indian pangolin (M. crassicaudata), tree pangolin (M. tricuspis), giant ground pangolin (M. gigantean), and the long-tailed pangolin (M. tetradactyla)) as an endangered species under the similarity of appearance provisions of the Act (section 4(e)), based upon the petitioners' claim of these species' similarity of appearance to the currently listed Temminck's ground pangolin (Manis temminckii). The petition clearly identified itself as such and included the requisite identification information for the petitioner, required at 50 CFR 424.14(a). In an August 17, 2015, letter to the petitioner, we responded that we had reviewed the information presented in the petition and did not find that the petition warranted an emergency listing under section 4(b)(7) of the Act.

As both petitions address the seven unlisted species of pangolin, we are combining the petitioned actions (listing each species as either threatened or endangered either based on the five factors under section 4(a)(1) of the Act or due to a similarity of appearance under section 4(e) of the Act) into a single 90-day finding for each species. The requested action for listing based on similarity of appearance (section 4(e)) will be considered under Factor E of each finding.

This finding addresses the giant ground pangolin (Manis gigantean).

Finding

Based on our review of the petition and sources cited in the petition, we find that the petition presents substantial scientific or commercial information indicating that listing the giant ground pangolin (Manis gigantean) may be warranted based on Factors A, B, D, and E. However, during our status review, we will thoroughly evaluate all potential threats to the species, including the extent to which any protections or other conservation efforts have reduced those threats. Thus, for this species, the Service requests any information relevant to whether the species falls within the definition of either an endangered species under section 3(6) of the Act or a threatened species under section 3(20), including information on the five listing factors under section 4(a)(1) and any other the factors identified in this finding (see Request for Information for Status Reviews, above).

Evaluation of Two Petitions To List the Indian Pangolin Under the Endangered Species Act

Additional information regarding our review of these petitions can be found as an appendix at http://www.regulations.gov under Docket No. FWS-HQ-ES-2016-0015 under the Supporting Documents section.

Species and Range

Indian pangolin (Manis crassicaudata): Bangladesh; India; Nepal; Pakistan; Sri Lanka

Petitions History

On July 15, 2015, we electronically received a petition from BFUSA, CBD, HSI, HSUS, and IFAW requesting that we list seven species of pangolin (Chinese pangolin (Manis pentadactyla), Sunda pangolin (M. javanica), Philippine pangolin (M. culionensis), Indian pangolin (M. crassicaudata), tree pangolin (M. tricuspis), giant ground pangolin (M. gigantean), and the long-tailed pangolin (M. tetradactyla)) as endangered species under the Act. The petition clearly identified itself as such and included the requisite identification information for the petitioner, required at 50 CFR 424.14(a). In an August 17, 2015, letter to the petitioner, we responded that we had reviewed the information presented in the petition and did not find that the petition warranted an emergency listing under section 4(b)(7) of the Act.

On July 15, 2015, we electronically received a second petition from CBD, IFAW, HSI, HSUS, and BFUSA requesting that the Service list the same seven species of pangolin (Chinese pangolin (Manis pentadactyla), Sunda pangolin (M. javanica), Philippine pangolin (M. culionensis), Indian pangolin (M. crassicaudata), tree pangolin (M. tricuspis), giant ground pangolin (M. gigantean), and the long-tailed pangolin (M. tetradactyla)) as an endangered species under the similarity of appearance provisions of the Act (section 4(e)), based upon the petitioners' claim of the species' similarity of appearance to the currently listed Temminck's ground pangolin (Manis temminckii). The petition clearly identified itself as such and included the requisite identification information for the petitioner, required at 50 CFR 424.14(a). In an August 17, 2015, letter to the petitioner, we responded that we had reviewed the information presented in the petition and did not find that the petition warranted an emergency listing under section 4(b)(7) of the Act.

As both petitions address the seven unlisted species of pangolin, we are combining the petitioned actions (listing each species as either threatened or endangered either based on the five factors under section 4(a)(1) of the Act or due to a similarity of appearance under section 4(e) of the Act) into a single 90-day finding for each species. The requested action for listing based on similarity of appearance (section 4(e)) will be considered under Factor E of each finding.

This finding addresses the Indian pangolin (Manis crassicaudata).

Finding

Based on our review of the petition and sources cited in the petition, we find that the petition presents substantial scientific or commercial information indicating that listing the Indian pangolin (Manis crassicaudata) may be warranted based on Factors A, B, D, and E. However, during our status review, we will thoroughly evaluate all potential threats to the species, including the extent to which any protections or other conservation efforts have reduced those threats. Thus, for this species, the Service requests any information relevant to whether the species falls within the definition of either an endangered species under section 3(6) of the Act or a threatened species under section 3(20), including information on the five listing factors under section 4(a)(1) and any other factors identified in this finding (see Request for Information for Status Reviews, above).

Evaluation of a Petition To List the Leoncita False-Foxglove as an Endangered or Threatened Species Under the Act

Additional information regarding our review of this petition can be found as an appendix at http://www.regulations.gov under Docket No. FWS-R2-ES-2016-0016 under the Supporting Documents section.

Species and Range

Leoncita false-foxglove (Agalinis calycina): New Mexico, Texas; Mexico

Petition History

On September 19, 2012, we received a petition dated September 6, 2012, from The Native Plant Society of New Mexico requesting that Leoncita false-foxglove be listed as endangered and critical habitat be designated for this species under the Act. The petition clearly identified itself as such and included the requisite identification information for the petitioner, required at 50 CFR 424.14(a). In a July 1, 2013, letter to the petitioner, we responded that we had reviewed the information presented in the petition and did not find that the petition warranted an emergency listing under section 4(b)(7) of the Act. This finding addresses the petition.

Finding

Based on our review of the petition and sources cited in the petition, we find that the petition presents substantial scientific or commercial information indicating that listing the Leoncita false-foxglove (Agalinis calycina) may be warranted, based on Factors A, D, and E. However, during our status review, we will thoroughly evaluate all potential threats to the species, including the extent to which any protections or other conservation efforts have reduced those threats. Thus, for this species, the Service requests any information relevant to whether the species falls within the definition of either an endangered species under section 3(6) of the Act or a threatened species under section 3(20), including information on the five listing factors under section 4(a)(1) and any other factors identified in this finding (see Request for Information for Status Reviews, above).

Evaluation of Two Petitions To List the Long-tailed Pangolin Under the Endangered Species Act

Additional information regarding our review of these petitions can be found as an appendix at http://www.regulations.gov under Docket No. FWS-HQ-ES-2016-0017 under the Supporting Documents section.

Species and Range

Long-tailed pangolin (Manis tetradactyla): Cameroon; Central African Republic; Congo; Congo, The Democratic Republic of the; Côte d'Ivoire; Equatorial Guinea (Equatorial Guinea (mainland)); Gabon; Ghana; Liberia; Nigeria; Sierra Leone

Petitions History

On July 15, 2015, we electronically received a petition from BFUSA, CBD, HSI, HSUS, and IFAW requesting that we list seven species of pangolin (Chinese pangolin (Manis pentadactyla), Sunda pangolin (M. javanica), Philippine pangolin (M. culionensis), Indian pangolin (M. crassicaudata), tree pangolin (M. tricuspis), giant ground pangolin (M. gigantean), and the long-tailed pangolin (M. tetradactyla)) as endangered species under the Act. The petition clearly identified itself as such and included the requisite identification information for the petitioner, required at 50 CFR 424.14(a). In an August 17, 2015, letter to the petitioner, we responded that we had reviewed the information presented in the petition and did not find that the petition warranted an emergency listing under section 4(b)(7) of the Act.

On July 15, 2015, we electronically received a second petition from CBD, IFAW, HSI, HSUS, and BFUSA requesting that the Service list the same seven species of pangolin (Chinese pangolin (Manis pentadactyla), Sunda pangolin (M. javanica), Philippine pangolin (M. culionensis), Indian pangolin (M. crassicaudata), tree pangolin (M. tricuspis), giant ground pangolin (M. gigantean), and the long-tailed pangolin (M. tetradactyla)) as an endangered species under the similarity of appearance provisions of the Act (section 4(e)), based upon the petitioners' claim of the species' similarity of appearance to the currently listed Temminck's ground pangolin (Manis temminckii). The petition clearly identified itself as such and included the requisite identification information for the petitioner, required at 50 CFR 424.14(a). In an August 17, 2015, letter to the petitioners, we responded that we had reviewed the information presented in the petition and did not find that the petition warranted an emergency listing under section 4(b)(7) of the Act.

As both petitions address the seven unlisted species of pangolin, we are combining the petitioned actions (listing each species as either threatened or endangered either based on the five factors under section 4(a)(1) of the Act or due to a similarity of appearance under section 4(e) of the Act) into a single 90-day finding for each species. The requested action for listing based on similarity of appearance (section 4(e)) will be considered under Factor E of each finding.

This finding addresses the long-tailed pangolin (Manis tetradactyla).

Finding

Based on our review of the petition and sources cited in the petition, we find that the petition presents substantial scientific or commercial information indicating that listing the long-tailed pangolin (Manis tetradactyla) may be warranted based on Factors A, B, D, and E. However, during our status review, we will thoroughly evaluate all potential threats to the species, including the extent to which any protections or other conservation efforts have reduced those threats. Thus, for this species, the Service requests any information relevant to whether the species falls within the definition of either an endangered species under section 3(6) of the Act or a threatened species under section 3(20), including information on the five listing factors under section 4(a)(1) and any other factors identified in this finding (see Request for Information for Status Reviews, above).

Evaluation of a Petition To List MacDougal's Yellowtops as an Endangered or Threatened Species Under the Act

Additional information regarding our review of this petition can be found as an appendix at http://www.regulations.gov under Docket No. FWS-R2-ES-2016-0033 under the Supporting Documents section.

Species and Range

MacDougal's Yellowtops (Flaveria macdougalii): Arizona

Petition History

On May 1, 2015, we received a petition dated May 1, 2015, from CBD, Tara Easter, and Robin Silver requesting that MacDougal's yellowtops (Flaveria macdougalii) be emergency listed as threatened or endangered and critical habitat be designated for the species under the Act. The petition clearly identified itself as such and included the requisite identification information for the petitioner, required at 50 CFR 424.14(a). Because the Act does not provide for petitions to emergency list, we are considering it as a petition to list MacDougal's yellowtops. However, we did consider the immediacy of possible threats to the species and whether emergency listing may be necessary at this time. In a June 4, 2015, letter to the petitioner, we responded that we had reviewed the information presented in the petition and did not find that the petition warranted an emergency listing under section 4(b)(7) of the Act. This finding addresses the petition.

Finding

Based on our review of the petition and sources cited in the petition, we find that the petition does not present substantial scientific or commercial information indicating that the petitioned action may be warranted for MacDougal's yellowtops (Flaveria macdougalii). Because the petition does not present substantial information indicating that listing MacDougal's yellowtops may be warranted, we are not initiating a status review of this species in response to this petition. The basis and scientific support for this finding can be found as an appendix at http://www.regulations.gov under Docket No. FWS-R2-ES-2016-0033 under the Supporting Documents section. However, we ask that the public submit to us any new information that becomes available concerning the status of, or threats to, this species or its habitat at any time (see Table 3 in SUPPLEMENTARY INFORMATION).

Evaluation of a Petition To List the Monito Skink as an Endangered or Threatened Species Under the Act

Additional information regarding our review of this petition can be found as an appendix at http://www.regulations.gov under Docket No. FWS-R4-ES-2016-0034 under the Supporting Documents section.

Species and Range

Monito skink (Spondylurus monitae): Puerto Rico

Petition History

On February 11, 2014, we received a petition dated February 11, 2014, from CBD requesting that the Culebra skink (Spondylurus culebrae), Mona Skink (Spondylurus monae), Monito Skink (Spondylurus Monitoe), Lesser Virgin Islands Skink (Spondylurus semitaeniatus), Virgin Islands Bronze Skink (Spondylurus sloanii), Puerto Rican Skink (Spondylurus nitidus), Greater Saint Croix Skink (Spondylurus magnacruzae), Greater Virgin Islands Skink (Spondylurus spilonotus), and Lesser Saint Croix Skink (Capitellum parvicruzae) be listed as endangered and critical habitat be designated for these species under the Act. The petition clearly identified itself as such and included the requisite identification information for the petitioner, required at 50 CFR 424.14(a). We acknowledged receipt of this petition via email on February 12, 2014. This finding addresses one of the nine species identified in the petition: the Monito skink. The Culebra skink, Greater Saint Croix skink, Mona skink, Puerto Rican skink, Virgin Islands bronze skink, Greater Virgin Islands skink, and Lesser Saint Croix skink were addressed in a separate finding, which was published in the Federal Register on January 12, 2016 (81 FR 1368). We will address the Lesser Virgin Islands skink in a separate evaluation. This finding addresses the Monito skink.

Finding

Based on our review of the petition and sources cited in the petition, we find that the petition does not present substantial scientific or commercial information indicating that the petitioned action may be warranted for the Monito skink (Spondylurus monitae). Because the petition does not present substantial information indicating that listing the Monito skink may be warranted, we are not initiating a status review of this species in response to this petition. The basis and scientific support for this finding can be found as an appendix at http://www.regulations.gov under Docket No. FWS-R4-ES-2016-0034 under the Supporting Documents section. However, we ask that the public submit to us any new information that becomes available concerning the status of, or threats to, this species or its habitat at any time (see Table 3 in SUPPLEMENTARY INFORMATION).

Evaluation of a Petition To Remove Navasota Ladies-Tresses From the List of Endangered and Threatened Wildlife

Additional information regarding our review of this petition can be found as an appendix at http://www.regulations.gov under Docket No. FWS-R2-ES-2016-0035 under the Supporting Documents section.

Species and Range

Navasota ladies-tresses (Spiranthes parksii): Texas

Petition History

On May 26, 2015, we received a petition dated May 26, 2015, by electronic mail, from American Stewards of Liberty and Dr. Steve W. Carothers requesting that Navasota ladies-tresses be delisted under the Act due to error in information. The petition clearly identified itself as a petition and included the requisite identification information for the petitioner, as required by 50 CFR 424.14(a). This finding addresses the petition.

Finding

Based on our review of the petition and sources cited in the petition, we find that the petition does not present substantial scientific or commercial information indicating that the petitioned action (delisting) may be warranted for Navasota ladies-tresses (Spiranthes parksii). Because the petition does not present substantial information indicating that delisting Navasota ladies-tresses may be warranted, we are not initiating a status review of this species in response to this petition. The basis and scientific support for this finding can be found as an appendix at http://www.regulations.gov under Docket No. FWS-R2-ES-2016-0035 under the Supporting Documents section. However, we ask that the public submit to us any new information that becomes available concerning the status of, or threats to, this species or its habitat at any time (see Table 3 in SUPPLEMENTARY INFORMATION).

Evaluation of a Petition To List the Patagonia Eyed Silkmoth as an Endangered or Threatened Species Under the Act

Additional information regarding our review of this petition can be found as an appendix at http://www.regulations.gov under Docket No. FWS-R2-ES-2016-0036 under the Supporting Documents section.

Species and Range

Patagonia eyed silkmoth (Automeris patagoniensis): Arizona; Mexico

Petition History

On June 29, 2015, we received a petition dated June 17, 2015, from Defenders of Wildlife and Patagonia Area Resource Alliance requesting that the Patagonia eyed silkmoth be listed as threatened or endangered and critical habitat be designated for this species under the Act. The petition clearly identified itself as such and included the requisite identification information for the petitioner, required at 50 CFR 424.14(a). This finding addresses the petition.

Finding

Based on our review of the petition and sources cited in the petition, we find that the petition does not present substantial scientific or commercial information indicating that the petitioned action may be warranted for the Patagonia eyed silkmoth (Automeris patagoniensis). Because the petition does not present substantial information indicating that listing the Patagonia eyed silkmoth may be warranted, we are not initiating a status review of this species in response to this petition. The basis and scientific support for this finding can be found as an appendix at http://www.regulations.gov under Docket No. FWS-R2-ES-2016-0036 under the Supporting Documents section. However, we ask that the public submit to us any new information that becomes available concerning the status of, or threats to, this species or its habitat at any time (see Table 3 in SUPPLEMENTARY INFORMATION).

Evaluation of Two Petitions To List the Philippine Pangolin Under the Endangered Species Act

Additional information regarding our review of these petitions can be found as an appendix at http://www.regulations.gov under Docket No. FWS-HQ-ES-2016-0018 under the Supporting Documents section.

Species and Range

Philippine pangolin (Manis culionensis): Philippines

Petitions History

On July 15, 2015, we electronically received a petition from BFUSA, CBD, HSI, HSUS, and IFAW requesting that we list seven species of pangolin (Chinese pangolin (Manis pentadactyla), Sunda pangolin (M. javanica), Philippine pangolin (M. culionensis), Indian pangolin (M. crassicaudata), tree pangolin (M. tricuspis), giant ground pangolin (M. gigantean), and the long-tailed pangolin (M. tetradactyla)) as endangered species under the Act. The petition clearly identified itself as such and included the requisite identification information for the petitioner, required at 50 CFR 424.14(a). In an August 17, 2015, letter to the petitioner, we responded that we had reviewed the information presented in the petition and did not find that the petition warranted an emergency listing under section 4(b)(7) of the Act.

On July 15, 2015, we electronically received a second petition from CBD, IFAW, HSI, HSUS, and BFUSA requesting that the Service list the same seven species of pangolin (Chinese pangolin (Manis pentadactyla), Sunda pangolin (M. javanica), Philippine pangolin (M. culionensis), Indian pangolin (M. crassicaudata), tree pangolin (M. tricuspis), giant ground pangolin (M. gigantean), and the long-tailed pangolin (M. tetradactyla)) as an endangered species under the similarity of appearance provisions of the Act (section 4(e)), based upon the petitioners' claim of the species' similarity of appearance to the currently listed Temminck's ground pangolin (Manis temminckii). The petition clearly identified itself as such and included the requisite identification information for the petitioners, required at 50 CFR 424.14(a). In an August 17, 2015, letter to the petitioners, we responded that we had reviewed the information presented in the petition and did not find that the petition warranted an emergency listing under section 4(b)(7) of the Act.

As both petitions address the seven unlisted species of pangolin, we are combining the petitioned actions (listing each species as either threatened or endangered either based on the five factors under section 4(a)(1) of the Act or due to a similarity of appearance under section 4(e) of the Act) into a single 90-day finding for each species. The requested action for listing based on similarity of appearance (section 4(e)) will be considered under Factor E of each finding.

This finding addresses the Philippine pangolin (Manis culionensis).

Finding

Based on our review of the petition and sources cited in the petition, we find that the petition presents substantial scientific or commercial information indicating that listing the Philippine pangolin (Manis culionensis) may be warranted based on Factors A, B, D, and E. However, during our status review, we will thoroughly evaluate all potential threats to the species, including the extent to which any protections or other conservation efforts have reduced those threats. Thus, for this species, the Service requests any information relevant to whether the species falls within the definition of either an endangered species under section 3(6) of the Act or a threatened species under section 3(20), including information on the five listing factors under section 4(a)(1) and any other factors identified in this finding (see Request for Information for Status Reviews, above).

Evaluation of a Petition To List the Reticulate Collared Lizard as an Endangered or Threatened Species Under the Act

Additional information regarding our review of this petition can be found as an appendix at http://www.regulations.gov under Docket No. FWS-R2-ES-2015-0109 under the Supporting Documents section.

Species and Range

Reticulate Collared Lizard (Crotaphytus reticulatus): Texas; Mexico

Petition History

On July 11, 2012, we received a petition dated July 11, 2012, from CBD requesting that 53 species of reptiles and amphibians, including the reticulate collared lizard, be listed under the Act as threatened or endangered species and critical habitat be designated under the Act. The petition clearly identified itself as such and included the requisite identification information for the petitioner, required at 50 CFR 424.14(a). This finding addresses the petition.

Finding

Based on our review of the petition and sources cited in the petition, we find that the petition does not present substantial scientific or commercial information indicating that the petitioned action may be warranted for the reticulate collared lizard (Crotaphytus reticulatus). Because the petition does not present substantial information indicating that listing the reticulate collared lizard may be warranted, we are not initiating a status review of this species in response to this petition. The basis and scientific support for this finding can be found as an appendix at http://www.regulations.gov under Docket No. FWS-R2-ES-2015-0109 under the Supporting Documents section. However, we ask that the public submit to us any new information that becomes available concerning the status of, or threats to, this species or its habitat at any time (see Table 3 in SUPPLEMENTARY INFORMATION).

Evaluation of a Petition To List the Rio Grande Chub as an Endangered or Threatened Species Under the Act

Additional information regarding our review of this petition can be found as an appendix at http://www.regulations.gov under Docket No. FWS-R2-ES-2016-0019 under the Supporting Documents section.

Species and Range

Rio Grande chub (Gila pandora): New Mexico, Texas.

Petition History

On September 30, 2013, we received a petition dated September 27, 2013, from Wild Earth Guardians requesting that the Rio Grande chub be listed as threatened or endangered and critical habitat be designated for this species under the Act. The petition clearly identified itself as such and included the requisite identification information for the petitioner, required at 50 CFR 424.14(a). This finding addresses the petition.

Finding

Based on our review of the petition and sources cited in the petition, we find that the petition presents substantial scientific or commercial information indicating that listing the Rio Grande chub (Gila pandora) may be warranted, based on Factors A, C, D, and E. However, during our status review, we will thoroughly evaluate all potential threats to the species, including the extent to which any protections or other conservation efforts have reduced those threats. Thus, for this species, the Service requests any information relevant to whether the species falls within the definition of either an endangered species under section 3(6) of the Act or a threatened species under section 3(20), including information on the five listing factors under section 4(a)(1) and any other factors identified in this finding (see Request for Information for Status Reviews, above).

Evaluation of a Petition To List the Rio Grande Sucker as an Endangered or Threatened Species Under the Act

Additional information regarding our review of this petition can be found as an appendix at http://www.regulations.gov under Docket No. FWS-R2-ES-2016-0020 under the Supporting Documents section.

Species and Range

Rio Grande sucker (Catostomus plebeius): Colorado, New Mexico; Mexico.

Petition History

On October 3, 2014, we received a petition dated September 29, 2014, from WildEarth Guardians requesting that Rio Grande sucker (also known as the Rio Grande mountain-sucker, or matelote del bravo) be listed as threatened or endangered and critical habitat be designated for this species under the Act. The petition clearly identified itself as such and included the requisite identification information for the petitioner, required at 50 CFR 424.14(a). This finding addresses the petition.

Finding

Based on our review of the petition and sources cited in the petition, we find that the petition presents substantial scientific or commercial information indicating that listing the Rio Grande sucker (Catostomus plebeius) may be warranted, based on Factors A, C, D, and E. However, during our status review, we will thoroughly evaluate all potential threats to the species, including the extent to which any protections or other conservation efforts have reduced those threats. Thus, for this species, the Service requests any information relevant to whether the species falls within the definition of either “endangered species” under section 3(6) of the Act or “threatened species” under section 3(20), including information on the five listing factors under section 4(a)(1) and any other factors identified in this finding (see Request for Information for Status Reviews, above).

Evaluation of a Petition To List the South Mountain Gray-Cheeked Salamander as an Endangered or Threatened Species Under the Act

Additional information regarding our review of this petition can be found as an appendix at http://www.regulations.gov under Docket No. FWS-R4-ES-2015-0117 under the Supporting Documents section.

Species and Range

South Mountain gray-cheeked salamander (Plethodon meridianus): North Carolina.

Petition History

On July 11, 2012, we received a petition dated July 11, 2012, from CBD requesting that 53 species of reptiles and amphibians, including the South Mountain gray-cheeked salamander, be listed under the Act as endangered or threatened and that critical habitat be designated under the Act. The petition clearly identified itself as such and included the requisite identification information for the petitioner, required at 50 CFR 424.14(a). This finding addresses the South Mountain gray-cheeked salamander.

Finding

Based on our review of the petition and sources cited in the petition, we find that the petition does not present substantial scientific or commercial information indicating that the petitioned action may be warranted for the South Mountain gray-cheeked salamander (Plethodon meridianus). Because the petition does not present substantial information indicating that listing the South Mountain gray-cheeked salamander may be warranted, we are not initiating a status review of this species in response to this petition. The basis and scientific support for this finding can be found as an appendix at http://www.regulations.gov under Docket No. FWS-R4-ES-2015-0117 under the Supporting Documents section. However, we ask that the public submit to us any new information that becomes available concerning the status of, or threats to, this species or its habitat at any time (see Table 3 in SUPPLEMENTARY INFORMATION).

Evaluation of a Petition To List the Southern Dusky Salamander as an Endangered or Threatened Species Under the Act

Additional information regarding our review of this petition can be found as an appendix at http://www.regulations.gov under Docket No. FWS-R4-ES-2016-0038 under the Supporting Documents section.

Species and Range

Southern dusky salamander (Desmognathus auriculatus): Alabama, Florida, Georgia, Louisiana, Mississippi, North Carolina, South Carolina, Texas, Virginia.

Petition History

On April 2, 2015, we received a petition from the Coastal Plains Institute and Land Conservancy requesting that southern dusky salamander be listed as threatened under the Act. The petition clearly identified itself as such and included the requisite identification information required at 50 CFR 424.14(a); however, it did not contain copies of supporting documents. We acknowledged receipt of the petition via email on April 22, 2015. Additional materials were received on June 10, 2015. This finding addresses the petition.

Finding

Based on our review of the petition and sources cited in the petition, we find that the petition does not present substantial scientific or commercial information indicating that the petitioned action may be warranted for the Southern dusky salamander (Desmognathus auriculatus). Because the petition does not present substantial information indicating that listing the Southern dusky salamander may be warranted, we are not initiating a status review of this species in response to this petition. The basis and scientific support for this finding can be found as an appendix at http://www.regulations.gov under Docket No. FWS-R4-ES-2016-0038 under the Supporting Documents section. However, we ask that the public submit to us any new information that becomes available concerning the status of, or threats to, this species or its habitat at any time (see Table 3 in SUPPLEMENTARY INFORMATION).

Evaluation of a Petition To Remove the Southwestern Willow Flycatcher From the List of Endangered and Threatened Wildlife

Additional information regarding our review of this petition can be found as an appendix at http://www.regulations.gov under Docket No. FWS-R2-ES-2016-0039 under the Supporting Documents section.

Species and Range

Southwestern willow flycatcher (Empidonax traillii extimus): California, Arizona, New Mexico, Colorado, Utah, and Nevada, Texas; winters in Central and South America.

Petition History

On August, 20, 2015, we received a petition dated August 19, 2015, from The Pacific Legal Foundation (representing The Center for Environmental Science, Accuracy, and Reliability; Building Industry Legal Defense Fund; California Building Industry Association; California Cattlemen's Association; New Mexico Business Coalition, New Mexico Cattle Growers Association; New Mexico Farm and Livestock Bureau; and New Mexico Wool Growers Inc.), requesting that the southwestern willow flycatcher (Empidonax traillii extimus) be delisted due to error in information under the Act. The petition clearly identified itself as such and included the requisite identification information for the petitioner, required at 50 CFR 424.14(a). This finding addresses the petition.

Finding

Based on our review of the petition and sources cited in the petition, we find that the petition presents substantial scientific or commercial information indicating that the petitioned action (delisting) may be warranted for the Southwestern willow flycatcher (Empidonax traillii extimus), based on information related to taxonomic status. However, during our status review, we will thoroughly evaluate all potential threats to the species, including the extent to which any protections or other conservation efforts have reduced those threats. Thus, for this species, the Service requests any information relevant to whether the species falls within the definition of either an endangered species under section 3(6) of the Act or a threatened species under section 3(20), including information on the five listing factors under section 4(a)(1) and any other factors identified in this finding (see Request for Information for Status Reviews, above).

Evaluation of Two Petitions To List the Sunda Pangolin Under the Endangered Species Act

Additional information regarding our review of these petitions can be found as an appendix at http://www.regulations.gov under Docket No. FWS-HQ-ES-2016-0021 under the Supporting Documents section.

Species and Range

Sunda pangolin (Manis javanica): Brunei Darussalam; Cambodia; Indonesia; Lao People's Democratic Republic; Malaysia; Myanmar; Singapore; Thailand; Viet Nam.

Petitions History

On July 15, 2015, we electronically received a petition from BFUSA, CBD, HSI, HSUS, and IFAW requesting that we list seven species of pangolin (Chinese pangolin (Manis pentadactyla), Sunda pangolin (M. javanica), Philippine pangolin (M. culionensis), Indian pangolin (M. crassicaudata), tree pangolin (M. tricuspis), giant ground pangolin (M. gigantean), and the long-tailed pangolin (M. tetradactyla)) as endangered species under the Act. The petition clearly identified itself as such and included the requisite identification information for the petitioner, required at 50 CFR 424.14(a). In an August 17, 2015, letter to the petitioner, we responded that we had reviewed the information presented in the petition and did not find that the petition warranted an emergency listing under section 4(b)(7) of the Act.

On July 15, 2015, we electronically received a second petition from CBD, IFAW, HSI, HSUS, and BFUSA requesting that the Service list the same seven species of pangolin (Chinese pangolin (Manis pentadactyla), Sunda pangolin (M. javanica), Philippine pangolin (M. culionensis), Indian pangolin (M. crassicaudata), tree pangolin (M. tricuspis), giant ground pangolin (M. gigantean), and the long-tailed pangolin (M. tetradactyla)) as an endangered species under the similarity of appearance provisions of the Act (section 4(e)), based upon the petitioners' claim of the species' similarity of appearance to the currently listed Temminck's ground pangolin (Manis temminckii). The petition clearly identified itself as such and included the requisite identification information for the petitioner, required at 50 CFR 424.14(a). In an August 17, 2015, letter to the petitioner, we responded that we had reviewed the information presented in the petition and did not find that the petition warranted an emergency listing under section 4(b)(7) of the Act.

As both petitions address the seven unlisted species of pangolin, we are combining the petitioned actions (listing each species as either threatened or endangered either based on the five factors under section 4(a)(1) of the Act or due to a similarity of appearance under section 4(e) of the Act) into a single 90-day finding for each species. The requested action for listing based on similarity of appearance (section 4(e)) will be considered under Factor E of each finding.

This finding addresses the Sunda pangolin (Manis javanica).

Finding

Based on our review of the petition and sources cited in the petition, we find that the petition presents substantial scientific or commercial information indicating that listing the Sunda pangolin (Manis javanica) may be warranted based on Factors A, B, D, and E. However, during our status review, we will thoroughly evaluate all potential threats to the species, including the extent to which any protections or other conservation efforts have reduced those threats. Thus, for this species, the Service requests any information relevant to whether the species falls within the definition of either an endangered species under section 3(6) of the Act or a threatened species under section 3(20), including information on the five listing factors under section 4(a)(1) and any other factors identified in this finding (see Request for Information for Status Reviews, above).

Evaluation of Two Petitions To List the Tree Pangolin Under the Endangered Species Act

Additional information regarding our review of these petitions can be found as an appendix at http://www.regulations.gov under Docket No. FWS-HQ-ES-2016-0022 under the Supporting Documents section.

Species and Range

Tree pangolin (Manis tricuspis): Angola (Angola); Benin; Cameroon; Central African Republic; Congo; Congo, The Democratic Republic of the; Côte d'Ivoire; Equatorial Guinea (Bioko, Equatorial Guinea (mainland)); Gabon; Ghana; Guinea; Guinea-Bissau; Kenya; Liberia; Nigeria; Rwanda; Sierra Leone; South Sudan; Tanzania, United Republic of; Togo; Uganda; Zambia.

Petitions History

On July 15, 2015, we electronically received a petition from BFUSA, CBD, HSI, HSUS, and IFAW requesting that we list seven species of pangolin (Chinese pangolin (Manis pentadactyla), Sunda pangolin (M. javanica), Philippine pangolin (M. culionensis), Indian pangolin (M. crassicaudata), tree pangolin (M. tricuspis), giant ground pangolin (M. gigantean), and the long-tailed pangolin (M. tetradactyla)) as endangered species under the Act. The petition clearly identified itself as such and included the requisite identification information for the petitioner, required at 50 CFR 424.14(a). In an August 17, 2015, letter to the petitioner, we responded that we had reviewed the information presented in the petition and did not find that the petition warranted an emergency listing under section 4(b)(7) of the Act.

On July 15, 2015, we electronically received a second petition from CBD, IFAW, HSI, HSUS, and BFUSA requesting that the Service list the same seven species of pangolin (Chinese pangolin (Manis pentadactyla), Sunda pangolin (M. javanica), Philippine pangolin (M. culionensis), Indian pangolin (M. crassicaudata), tree pangolin (M. tricuspis), giant ground pangolin (M. gigantean), and the long-tailed pangolin (M. tetradactyla)) as an endangered species under the similarity of appearance provisions of the Act (section 4(e)), based upon the petitioners' claim of the species' similarity of appearance to the currently listed Temminck's ground pangolin (Manis temminckii). The petition clearly identified itself as such and included the requisite identification information for the petitioner, required at 50 CFR 424.14(a). In an August 17, 2015, letter to the petitioner, we responded that we had reviewed the information presented in the petition and did not find that the petition warranted an emergency listing under section 4(b)(7) of the Act.

As both petitions address the seven unlisted species of pangolin, we are combining the petitioned actions (listing each species as either threatened or endangered either based on the five factors under section 4(a)(1) of the Act or due to a similarity of appearance under section 4(e) of the Act) into a single 90-day finding for each species. The requested action for listing based on similarity of appearance (section 4(e)) will be considered under Factor E of each finding.

This finding addresses the tree pangolin (Manis tricuspis).

Finding

Based on our review of the petition and sources cited in the petition, we find that the petition presents substantial scientific or commercial information indicating that listing the tree pangolin (Manis tricuspis) may be warranted based on Factors A, B, D, and E. However, during our status review, we will thoroughly evaluate all potential threats to the species, including the extent to which any protections or other conservation efforts have reduced those threats. Thus, for this species, the Service requests any information relevant to whether the species falls within the definition of either an endangered species under section 3(6) of the Act or a threatened species under section 3(20), including information on the five listing factors under section 4(a)(1) and any other factors identified in this finding (see Request for Information for Status Reviews, above).

Evaluation of a Petition To List the Western Bumble Bee as an Endangered or Threatened Species Under the Act

Additional information regarding our review of this petition can be found as an appendix at http://www.regulations.gov under Docket No. FWS-R6-ES-2016-0023 under the Supporting Documents section.

Species and Range

Western bumble bee (Bombus occidentalis): Alaska, Arizona, California, Colorado, Idaho, Montana, Nebraska, New Mexico, North Dakota, Oregon, South Dakota, Washington, Wyoming, Utah; Canada: Alberta, British Columbia, Saskatchewan, Yukon Territory.

Petition History

On September 21, 2015, we received a petition dated September 15, 2015, from Defenders of Wildlife requesting that the western bumble bee be listed as threatened or endangered and critical habitat be designated for this species under the Act. The petition clearly identified itself as such and included the requisite identification information for the petitioner, required at 50 CFR 424.14(a). This finding addresses the petition.

Finding

Based on our review of the petition and sources cited in the petition, we find that the petition presents substantial scientific or commercial information indicating that listing the western bumble bee (Bombus occidentalis) may be warranted, based on Factors C, D, and E. However, during our status review, we will thoroughly evaluate all potential threats to the species, including the extent to which any protections or other conservation efforts have reduced those threats. Thus, for the western bumble bee, the Service requests any information relevant to whether the species falls within the definition of either an endangered species under section 3(6) of the Act or a threatened species under section 3(20), including information on the five listing factors under section 4(a)(1) and any other factors identified in this finding (see Request for Information for Status Reviews, above).

Evaluation of a Petition To List the Yellow-Banded Bumble Bee as an Endangered or Threatened Species Under the Act

Additional information regarding our review of this petition can be found as an appendix at http://www.regulations.gov under Docket No. FWS-R5-ES-2016-0024 under the Supporting Documents section.

Species and Range

Yellow-banded bumble bee (Bombus terricola): Connecticut, Kentucky, Illinois, Maine, Maryland, Massachusetts, Michigan, Minnesota, Montana, New Hampshire, New Jersey, New York, North Carolina, North Dakota, Ohio, Pennsylvania, Rhode Island, South Dakota, Tennessee, Vermont, Virginia, West Virginia, Wisconsin; Canada: Alberta, British Columbia, Manitoba, Newfoundland, Nova Scotia, Ontario, Quebec, Saskatchewan.

Petition History

On September 15, 2015, we received a petition dated September 15, 2015, from Defenders of Wildlife requesting that the yellow-banded bumble bee (Bombus terricola) be listed as threatened or endangered and critical habitat be designated for this species under the Act. The petition clearly identified itself as such and included the requisite identification information for the petitioner, required at 50 CFR 424.14(a). This finding addresses the petition.

Finding

Based on our review of the petition and sources cited in the petition, we find that the petition presents substantial scientific or commercial information indicating that listing the yellow-banded bumble bee (Bombus terricola) may be warranted, based on Factors A, C, D, and E. However, during our status review, we will thoroughly evaluate all potential threats to the species, including the extent to which any protections or other conservation efforts have reduced those threats. Thus, for this species, the Service requests any information relevant to whether the species falls within the definition of either an endangered species under section 3(6) of the Act or a threatened species under section 3(20), including information on the five listing factors under section 4(a)(1) and any other factors identified in this finding (see Request for Information for Status Reviews, above).

Conclusion

On the basis of our evaluation of the information presented in the petitions under section 4(b)(3)(A) of the Act, we have determined that the petitions summarized above for the acuna cacus, Arizona night lizard, Arizona wetsalts tiger beetle, Bezy's night lizard, Cheoah Bald salamander, Cow Knob salamander, MacDougal's yellowtops, Monito skink, Navasota ladies-tresses, Patagonia eyed silkmoth, reticulate collared lizard, South Mountain gray-cheeked salamander, and southern dusky salamander do not present substantial scientific or commercial information indicating that the requested actions may be warranted. Therefore, we are not initiating status reviews for these species.

The petitions summarized above for the African elephant, American burying beetle, Chinese pangolin, deseret milkvetch, giant ground pangolin, Indian pangolin, Leoncita false-foxglove, long-tailed pangolin, Philippine pangolin, Rio Grande chub, Rio Grande sucker, Sunda pangolin, tree pangolin, southwestern willow flycatcher, western bumble bee, and yellow-banded bumble bee present substantial scientific or commercial information indicating that the requested actions may be warranted.

Because we have found that these petitions present substantial information indicating that the petitioned actions may be warranted, we are initiating status reviews to determine whether these actions under the Act are warranted. At the conclusion of each status review, we will issue a finding, in accordance with section 4(b)(3)(B) of the Act, as to whether or not the Service finds that the petitioned action is warranted.

It is important to note that the standard for a 90-day finding differs from the Act's standard that applies to a status review to determine whether a petitioned action is warranted. In making a 90-day finding, we consider only the information in the petition and in our files, and we evaluate merely whether that information constitutes “substantial information” indicating that the petitioned action “may be warranted.” In a 12-month finding, we must complete a thorough status review of the species and evaluate the “best scientific and commercial data available” to determine whether a petitioned action “is warranted.” Because the Act's standards for 90-day and 12-month findings are different, a substantial 90-day finding does not mean that the 12-month finding will result in a “warranted” finding.

References Cited

A complete list of references cited is available on the Internet at http://www.regulations.gov and upon request from the appropriate lead field offices (contact the person listed under Table 3 in SUPPLEMENTARY INFORMATION).

Authors

The primary authors of this notice are staff members of the Ecological Services Program, U.S. Fish and Wildlife Service.

Authority

The authority for these actions is the Endangered Species Act of 1973, as amended (16 U.S.C. 1531 et seq.).

Dated: February 24, 2016.
Stephen Guertin,
Acting Director, U.S. Fish and Wildlife Service.

[FR Doc. 2016-05699 Filed 3-15-16; 8:45 am]

BILLING CODE 4333-15-P